DEPARTMENT OF LABOR

Occupational Safety and Health Administration

Agency Information Collection Activities; Announcement of Office of Management and Budget (OMB) Control Numbers Under the Paperwork Reduction Act

AGENCY: Occupational Safety and Health Administration (OSHA), Labor.

ACTION: Notice; announcement of OMB approval of information collection requirements.

SUMMARY: The Occupational Safety and Health Administration (OSHA) announces that OMB has extended its approval for a number of information collection requirements found in sections of 29 CFR parts 1910 and 1926. OSHA sought approval under the Paperwork Reduction Act of 1995 (PRA-95), and, as required by that Act, is announcing the approval numbers and expiration dates for those requirements.

EFFECTIVE DATE: This notice is effective April 20, 2005.

FOR FURTHER INFORMATION CONTACT: Todd Owen or Theda Kenney, Directorate of Standards and Guidance, Occupational Safety and Health Administration, U.S. Department of Labor, Room N-3609, 200 Constitution Avenue, NW., Washington, DC 20210, telephone: (202) 693-2222.

SUPPLEMENTARY INFORMATION: In a series of Federal Register notices, the Agency announced its requests to OMB to renew its current extensions of approvals for various information collection (paperwork) requirements in its safety and health standards for general industry and the construction industry (i.e., 29 CFR parts 1910 and 1926). In these Federal Register announcements, the Agency provided 60-day comment periods for the public to respond to OSHA's burden-hour and cost estimated.

In accordance with PRA-95 (44 U.S.C. 3501-3520), OMB renewed its approval for these information collection requirements and assigned OMB control numbers to these requirements. The table below provides the following information for each of these OMB-approved requirements: the title of the collection; the date of the Federal Register notice; the Federal Register reference (date, volume, and leading page); OMB's control number; and the new expiration date.

Title | Date of Federal Register publication, Federal Register reference, and OSHA docket number | OMB control number | Expiration date
Access to Employee Exposure and Medical Records (29 CFR 1910.1020) | 12/19/2003, 68 FR 70840, Docket No. 1218-0065 (2004) | 1218-0065 | 04/30/2007
Additonal Requirements for Special Dipping and Coating Operations (Dip Tanks) (29 CFR 1910.126(g)(4)) | 3/16/2004, 69 FR 12354, Docket No. 1218-00237 (2004) | 1218-0237 | 7/31/2007
Application for Training Grant | 3/18/2004, 69 FR 12868, Docket No. 1218-00020 (2004) | 1218-0020 | 09/30/2007
Asbestos in General Industry (29 CFR 1910.1001) | 02/05/2004, 69 FR 5587, Docket No. 1218-0133 (2004) | 1218-0133 | 06/30/2007
Bloodborne Pathogens Standard (29 CFR 1910.1030) | 05/07/2004, 69 FR 25611, Docket No. 1218-0180 (2004) | 1218-0180 | 11/30/2007
Concrete and Masonry Construction (29 CFR part 1926, subpart Q) | 08/26/2004, 69 FR 52528, Docket No. 1218-0095 (2004) | 1218-0095 | 12/31/2007
Construction Fall Protection Plans and Training Requirements (29 CFR 1926.502 and 1926.503) | 12/23/2003, 69 FR 74258, Docket No. 1218-0197 (2004) | 1218-0197 | 05/31/2007
Control of Hazardous Energy Sources (Lockout/Tagout) (29 CFR 1910.147) | 03/11/2004, 69 FR 11664, Docket No. 1218-0150 (2004) | 1218-0150 | 02/29/2008
Course Evaluation | 04/20/2004, 69 FR 21163, Docket No. 1218-0173 (2004) | 1218-0173 | 09/30/2007
Cranes and Derricks Standard for Construction (29 CFR 1926.550(a)(6)) | 07/28/2004, 69 FR 45081, Docket No. 1218-0113 (2004) | 1218-0113 | 12/31/2007
Cranes and Derricks Standard for Construction; Notification of Operational Specification and Hand Signals (29 CFR 1926.550 | 09/23/2004, 69 FR 57097, Docket No. 1218-0115 (2004) | 1218-0115 | 12/31/2007
Cranes and Derricks Standard for Construction; Recording Tests for Toxic Gases and Oxygen-Deficient Atmospheres in Enclosed Spaces | 09/23/2004, 69 FR 57098, Docket No. 1218-0054 (2004) | 1218-0054 | 12/31/2007
Crawler, Truck and Locomotive Cranes (29 CFR 1926.550(b)(2)) | 07/19/2004, 69 FR 43020, Docket No. 1218-0232 (2004) | 1218-0232 | 02/29/2008
Definition and Requirement for a Nationally Recognized Testing Laboratory (29 CFR 1910.7) | 11/04/2003, 68 FR 62477, Docket No. 1218-0147 (2004) | 1218-0147 | 04/30/2007
Formaldehyde (29 CFR 1910.1048) | 12/12/2003, 68 FR 69425, Docket No. 1218-0145 (2004) | 1218-0145 | 04/30/2007
Gear Certification (29 CFR part 1919) | 08/27/2004, 69 FR 52734, Docket No. 1218-0003 (2004) | 1218-0003 | 12/31/2007
Grantee Quarterly Progress Report | 03/18/2004, 69 FR 12869, Docket No. 1218-0100 (2004) | 1218-0100 | 08/31/2007
The Hydrostatic Testing Provision of the Standard on Portable Fire Extinguishers (29 CFR 1910.157(f)(16)) | 03/26/2004, 69 FR 15907, Docket No. 1218-0218 (2004) | 1218-0218 | 09/30/2007
Ionizing Radiation (29 CFR 1910.1096) | 07/23/2004, 69 FR 44068, Docket No. 1218-0103 (2004) | 1218-0103 | 11/30/2007
Logging Operations (29 CFR 1910.266) | 07/28/2004, 69 FR 45082, Docket No. 1218-0198 (2004) | 1218-0198 | 12/31/2007
Manlifts (29 CFR 1910.68(e)) | 07/19/2004, 69 FR 43018, Docket No. 1218-0226 (2004) | 1218-0198 | 12/31/2007
Manufacturer's Certification of Modification Made to Construction Aerial Lifts (29 CFR 1926.453) | 10/22/2003, 69 FR 60417, Docket No. 1218-0216 (2004) | 1218-0216 | 03/31/2007
Material Hoists, Personnel Hoists, and Elevators: Posting Requirements, Text and Inspections (29 CFR 1926.552(a)(2), (b)(1)(i), (c)(10), and (c)(15)) | 03/02/2004, 69 FR 9852, Docket No. 1218-0231 (2004) | 1218-0231 | 11/30/2007
Mechanical Power Presses (29 CFR 1910.217(e)(1)(i) and (e)(1)(ii)) | 03/16/2004, 69 FR 12355, Docket No. 1218-0229 (2004) | 1218-0229 | 07/31/2007
Notice of Alleged Safety and Health Hazards, OSHA 7 Form | 08/27/2004, 69 FR 52732, Docket No. 1218-0064 (2004) | 1218-0064 | 02/29/2008
Overhead and Gantry Cranes Standard (29 CFR 1910.179) | 03/02/2004, 69 FR 9853, Docket No. 1218-0224 (2004) | 1218-0224 | 07/31/2007
Portable Fire Extinguishers (Annual Maintenance Certification Record) (29 CFR 1910.157(e)(13)) | 03/26/2004, 69 FR 15905, Docket No. 1218-0238 (2004) | 1218-0238 | 09/30/2007
Powered Platforms for Building Maintenance (29 CFR 1910.66) | 07/27/2004, 69 FR 44694, Docket No. 1218-0121 (2004) | 1218-0121 | 12/31/2007
Rigging Equipment for Material Handling (29 CFR 1926.251) | 03/26/2004, 69 FR 15906, Docket No. 1218-0233 (2004) | 1218-0233 | 11/30/2007
Student Data Form | 03/16/2004, 69 FR 12353, Docket No. 1218-0172 (2004) | 1218-0172 | 08/31/2007
Welding, Cutting and Brazing (29 CFR 1910.225(e)) | 04/06/2004, 69 FR 18140, Docket No. 1218-0207 (2004) | 1218-0207 | 09/30/2007

In accordance with 5 CFR 1320.5(b), an agency cannot conduct, sponsor, or require a response to a collection of information unless the collection displays a valid OMB control number and the agency informs respondents that they are not required to respond to the collection of information unless it displays a currently valid OMB control number.

Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on April 12, 2005.
Jonathan L. Snare,
Acting Assistant Secretary of Labor.

[FR Doc. 05-7939 Filed 4-19-05; 8:45 am]

BILLING CODE 4510-26-M